DEPARTMENT OF AGRICULTURE

Animal and Plant Health Inspection Service

[Docket No. APHIS-2025-0027]

Revision to and Extension of Approval of an Information Collection; Importation of Sheep, Goats, and Certain Other Ruminants

AGENCY: Animal and Plant Health Inspection Service, USDA.

ACTION: Revision to and extension of approval of an information collection; comment request.

SUMMARY: In accordance with the Paperwork Reduction Act of 1995, this notice announces the Animal and Plant Health Inspection Service's intention to request a revision to and extension of approval of an information collection regarding activities associated with its efforts to safeguard the health of the U.S. livestock and poultry populations from diseases that might be introduced or spread by the importation of small and exotic ruminants.

DATES: We will consider all comments that we receive on or before November 10, 2025.

ADDRESSES: You may submit comments by either of the following methods:

• Federal eRulemaking Portal: Go to http://www.regulations.gov. Enter APHIS-2025-0027 in the Search field. Select the Documents tab, then select the Comment button in the list of documents.

• Postal Mail/Commercial Delivery: Please send one copy of your comment to Docket No. APHIS-2025-0027, Regulatory Analysis and Development, PPD, APHIS, 5601 Sunnyside Ave., #AP760, Beltsville, MD 20705.

Supporting documents and any comments we receive on this docket may be viewed at http://www.regulations.gov or in our reading room, which is in room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: For information on regulations governing the import of live animals, contact Dr. Mary Kate Anderson, Senior Staff Officer, Live Animal Imports, Strategy and Policy, Veterinary Services, APHIS, 8601 Sunnyside Ave., Beltsville, MD, (301) 789-4466; marykate.anderson@usda.gov. For more detailed information on the information collection process, contact Ms. Sheniqua Harris, Information Collection Coordinator, at (301) 851-2528 or email: APHIS.PRA@usda.gov.

SUPPLEMENTARY INFORMATION:

Title: Importation of Sheep, Goats, and Certain Other Ruminants.

OMB Control Number: 0579-0453.

Type of Request: Revision to and extension of approval of an information collection.

Abstract: Under the Animal Health Protection Act (7 U.S.C. 8301 et seq.), the Animal and Plant Health Inspection Service (APHIS) of the U.S. Department of Agriculture is authorized, among other things, to prohibit or restrict the interstate movement of animals and animal products to prevent the dissemination within the United States of animal diseases and pests of livestock and to conduct programs to detect, control, and eradicate pests and diseases of livestock.

APHIS regulates the importation of animals and animal products into the United States to guard against the introduction of animal diseases. The regulations in Title 9, Code of Federal Regulations (9 CFR) parts 91, 93, 94, 95, and 96 govern the importation of certain animals, birds, poultry, meat, other animal products and byproducts, hay, and straw into the United States to prevent the introduction of diseases such as bovine spongiform encephalopathy (BSE), a chronic degenerative disease that affects the central nervous system of cattle. The regulations also help prevent the spread of diseases currently in the United States, such as scrapie.

APHIS uses a variety of information collection procedures and forms to gather data in its efforts to prevent the introduction or spread of disease. Information collected via these procedures and forms includes, but is not limited to, the names of the exporter and importer of the animal commodities; the origins of the animals or animal products to be imported; the health status of the animals or the processing methods used to produce animal products to be imported; the destination of delivery in the United States; and whether the animals or animal products were temporarily offloaded in another country during transit to the United States.

We are asking the Office of Management and Budget (OMB) to approve our use of these information collection activities for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public burden for this collection of information is estimated to average .5 hours per response.

Respondents: Importers of animals, animal products, and animal germplasm into the United States; foreign exporters of these items; foreign animal health authorities; and State animal health authorities.

Estimated annual number of respondents: 741.

Estimated annual number of responses per respondent: 22.

Estimated annual number of responses: 16,406.

Estimated total annual burden on respondents: 8,260 hours. (Due to averaging, the total annual burden hours may not equal the product of the annual number of responses multiplied by the reporting burden per response.)

All responses to this notice will be summarized and included in the request for OMB approval. All comments will also become a matter of public record.

Done in Washington, DC, this 8th day of September 2025.
Michael Watson,
Administrator, Animal and Plant Health Inspection Service.

[FR Doc. 2025-17506 Filed 9-10-25; 8:45 am]

BILLING CODE 3410-34-P